CONSUMER PRODUCT SAFETY COMMISSION

[Docket No. CPSC-2013-0020]

Agency Information Collection Activities; Submission for Office of Management and Budget Review; Comment Request; CPSC National Awareness Survey

AGENCY: Consumer Product Safety Commission.

ACTION: Notice.

SUMMARY: The Consumer Product Safety Commission (CPSC or Commission) is announcing that a proposed collection of information regarding a generic clearance to conduct national awareness surveys regarding the CPSC and CPSC activities has been submitted to the Office of Management and Budget (OMB) for review and clearance under the Paperwork Reduction Act of 1995.

DATES: Fax or email written comments on the collection of information by September 13, 2013.

ADDRESSES: Written comments should be faxed to the Office of Information and Regulatory Affairs, OMB, Attn: CPSC Desk Officer, FAX: 202-395-6974, or emailed to: oira_submission@omb.eop.gov. All comments should be identified by Docket No. CPSC-2013-0020. In addition, written comments also should be submitted at: http://www.regulations.gov, under Docket No. CPSC-2013-0020, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, Consumer Product Safety Commission, 4330 East West Highway, Bethesda, MD 20814; (301) 504-7815, or by email to: rsquibb@cpsc.gov.

SUPPLEMENTARY INFORMATION: On May 21, 2013, the Commission provided an opportunity for public comment on a proposed collection of information on a generic clearance to conduct national awareness surveys regarding the CPSC and CPSC activities (78 FR 29731). One comment was received in support of the proposed survey activities. The commenter states that improving the CPSC's communication capabilities will aid the Commission in fulfilling its mission to reduce the risks to consumers from unsafe products. In compliance with 44 U.S.C. 3507, the CPSC has submitted the following proposed collection of information to the OMB for review and clearance: CPSC National Awareness Survey.

A. National Awareness Survey

The Commission is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that the Commission may conduct research, studies, and investigations on the safety of consumer products or test consumer products and develop product safety test methods and testing devices. To increase awareness about the CPSC and to communicate more effectively and efficiently with the public regarding information related to consumer product safety, such as product recalls and the reporting of hazardous incidents, the Commission must evaluate current awareness and benchmark changes in public awareness brought about through agency efforts. Using a national awareness survey (NAS), the Commission will benchmark current levels of awareness of the CPSC and, through two proposed surveys each year, measure changes in awareness. Data obtained through the surveys will allow the CPSC's Office of Communications to adjust its communications plans to increase effectiveness. The Commission is seeking a generic clearance approval from OMB to streamline the process for approval of subsequent awareness surveys; as the awareness efforts continue, related surveys may be need to be adjusted or modified to obtain the most relevant awareness data.

The first two NAS will provide baseline data on the awareness of the agency, the CPSC's programs, and recalls—information about which relatively little systematic data has been collected. Periodic subsequent surveys with new respondents at CPSC-determined intervals are contemplated, depending on agency resources and needs. Analysis of subsequent surveys will assess changes in awareness. Additional surveys also will provide assessment of the effects of temporal events, such as product recalls with wide media coverage, or seasonal use of fireworks or holiday lights. To gauge the extent of the public's awareness of the agency and its activities, each NAS will measure awareness of sources for product safety information, awareness of procedures for hazardous incident reporting, and awareness of product recall enforcement activity. In addition, NAS results will inform the CPSC on the relationship of awareness and key respondent characteristics, such as age or and household characteristics, including the presence of children.

Based on the information to be obtained through the proposed NAS, the CPSC intends to adjust its communications efforts to achieve a greater impact on consumer behavior among a broad range of consumers with differing needs. Reaching all target audiences requires varying communications approaches. The NAS are intended to assess which audiences are being reached and which messages are being communicated effectively. Results are expected to indicate which messages and methods of communication require further development. For example, awareness in households with children aged five and younger is expected to be different from awareness in households comprising only seniors. The need to include diverse respondents necessitates contacting a large number of households to obtain adequate sample sizes for all key subpopulations.

The first two survey data collections are proposed to include a sufficient number of respondents covering different time points to establish meaningful baseline estimates of consumer awareness and use of CPSC services. The data also may be used to support other aspects of agency operations and communications programs.

The survey will be administered using a computer-assisted telephone interview (CATI) system, in a secure location, to which only authorized personnel have access. The interview will be conducted using a random (cell and landline) telephone number dialing protocol. Interviewers will collect data from a randomly selected adult member of each household. Participation is voluntary, and all responses will be confidential. The operators dialing and conducting the survey are trained interviewers. The initial screening is short, taking less than a minute at the longest. The brevity of the screening will reduce the burden to nonparticipants. Respondents who are aware of the CPSC will be presented with 23 substantive questions. Those who are not familiar with the agency will be presented with 18 substantive questions. All participants will be asked 13 demographic questions and invited to participate in a brief follow-up phone discussion to provide context and detail on the CPSC and product safety information awareness. Follow-up discussions will be held with no more than nine respondents. Follow-up topics and questions will be based on baseline results. To minimize respondent burden, the CATI system will be designed to ensure that interviewers ask each respondent survey items appropriate for the respondent's level of awareness only.

The system's automatic survey control will produce status reports to allow ongoing monitoring of the survey's progress. The CATI scheduler will be used to route telephone numbers to interviewers, maintain a schedule of callback appointments, and reschedule unsuccessful contact attempts to an appropriate day and time.

B. Burden Hours

The number of respondents is estimated to be 1,348, who may consist of management, professional, or related workers. The total annual burden hours for respondents are estimated to be 455.9 hours. The hourly cost to each respondent is estimated to be $51.03 (U.S. Bureau of Labor Statistics, “Employer Costs for Employee Compensation,” December 2012, Table 9, total compensation for all management, professional, and related workers in goods-producing private industries: http://www.bls.gov/ncs/). Accordingly, based on these assumptions, the estimated total annual cost burden to all respondents is $23,264.58 (455.9 hours × $51.03, or $23,264.58).

The annual cost to the federal government includes the cost of administering the survey (including initial set-up costs) under the contract to design and conduct the NAS ($162,952), plus $3,976 for salary and benefits for government personnel assigned to this study. Government personnel is expected to expend 6 days of staff time (3 days, or 24 hours of staff time, for each survey) at an average level of GS-14 step 5 (($119,238/.692) ÷ 2080 total hours per year) × 48 hours per year), using a 69.2 percent ratio of wages and salary to total compensation (from Table 1 of the September 2012 Employer Costs for Employee Compensation, published by the Bureau of Labor Statistics). For the first two surveys, the total estimated cost to the government is $166,928 ($162,952 plus $3,976). After the first two surveys, the total annual estimated cost to the government will be reduced to $133,976 ($130,000 plus $3,976) in future years for two surveys to be conducted annually as adjusted for inflation.

Dated: August 9, 2013.
Todd A. Stevenson,
Secretary, Consumer Product Safety Commission.

[FR Doc. 2013-19690 Filed 8-13-13; 8:45 am]

BILLING CODE 6355-01-P